DEPARTMENT OF TRANSPORTATION

Federal Aviation Administration

14 CFR Part 25

[Docket No. 25263; Notice No. 87-3]

RIN 2120-AB46

Low Fuel Quantity Alerting System

AGENCY: Federal Aviation Administration (FAA), DOT.

ACTION: Notice of proposed rulemaking (NPRM); withdrawal.

SUMMARY: The FAA is withdrawing a previously published Notice of Proposed Rulemaking (NPRM) to amend airworthiness standards for transport category airplanes by requiring a means to alert the flight crew to potentially unsafe low fuel quantities. We are withdrawing the proposed rule because information has been surpassed by technological advances. The issues will be addressed by future regulatory action based on recommendations from the Aviation Rulemaking Advisory Committee (ARAC). The FAA has determined that future regulatory action, including the broader scope of a harmonized proposal, will better serve the public interest.

FOR FURTHER INFORMATION CONTACT: Michael McRae, Propulsion and Mechanical Systems Branch, Federal Aviation Administration, telephone 425-227-2113, e-mail mike.mcrae@faa.gov.

SUPPLEMENTARY INFORMATION

Background

On May 12, 1987, the FAA published Notice of Proposed Rulemaking No. 87-3 (52 FR 17890) to propose an amendment to part 25 of title 14, Code of Federal Regulations, and invited public comment on the subject of a low fuel quantity alerting system. Notice No. 87-3 proposes to amend airworthiness standards for transport category airplanes by requiring a means to alert the flight crew to potentially unsafe low fuel quantities. The alerting system would be required to be independent of the normal fuel quantity measurement system, and the alert would have to occur with no less fuel remaining than that required to operate for 30 minutes at normal cruising conditions. The comment period closed September 9, 1987.

Discussion of Comments

Ten comments were received in response to the NPRM. In general, most commenters were in favor of the NPRM for the low fuel quantity alerting system, with a few commenters suggesting additional enhancements to the proposal.

Of the commenters that express support for the proposal, one urges a similar rule change to parts 23, 121, and 135 of title 14 of the Code of Federal Regulations. Of the commenters who feel additional technology is warranted, one recommends a review and application to existing aircraft, another recommends an annual calibration check of the system, and another offers some design considerations. Several commenters find the cost estimation to be underestimated in the NPRM.

Two commenters support the proposal and state that the phrase “30 minutes at normal cruising conditions” needs clarification. Another two commenters object to the same phrase, but oppose the proposal, because it only applies to one configuration and one altitude. Both of these commenters assert that the proposal should only apply to air carriers whose aircraft weigh over 75,000 pounds.

The FAA acknowledges these contributions to the rulemaking process, and affirms its commitment to aviation safety by continuing to clarify, update, and harmonize its regulations. We will address any remaining concerns in future regulatory actions as we pursue global harmonization of aviation regulations.

ICAO and Harmonization

The International Civil Aviation Organization (ICAO) established the International Standards and Recommended Practices to promote international cooperation towards the highest possible degree of uniformity in regulations and standards. Thirty-two States and authorities joined in the goal of standardization.

The FAA and the Joint Aviation Authorities (JAA) of Europe came together to standardize their respective codes of regulation and identified a number of significant regulatory differences. Both consider harmonization of the two codes a high priority. In 1999, the FAA and JAA agreed on a Fast Track Harmonization Program to expedite the standardization process. ICAO Resolution A29-3, Global Rule Harmonization, urges States to take positive action to promote global harmonization of national rules for application of ICAO standards. The FAA actively supports ICAO initiatives and programs to achieve a safe and efficient aviation system worldwide.

Reason for Withdrawal

The FAA is involved in eliminating unnecessary differences and harmonizing, where practical, similar requirements with Europe and Transport Canada. We find that including the issues of Notice No. 87-3 within harmonization efforts assigned to ARAC will contribute to a more complete and current analysis of the issues that will better serve the public interest. In addition, future regulatory action will allow the public to benefit from the inclusion of technological advances relevant to the issues. To achieve harmonization goals and address technological issues, we will propose future changes to the Code of Federal Regulations through an NPRM with opportunity for public comment. Therefore, the FAA withdraws Notice No. 87-3 (52 FR 17890), published May 12, 1987.

Issued in Washington, DC, on August 16, 2002.
Ronald T. Wojnar,
Deputy Director, Aircraft Certification Service (AIR-1).

[FR Doc. 02-21471 Filed 8-21-02; 8:45 am]

BILLING CODE 4910-13-P